DEPARTMENT OF TRANSPORTATION

Federal Highway Administration

[Docket No. FHWA-2011-0035]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We published a Federal Register Notice with a 60-day public comment period on this information collection on August 19, 2010. We are required to publish this notice in the Federal Register by the Paperwork Reduction Act of 1995.

DATES: Please submit comments by June 15, 2011.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2011-0135.

FOR FURTHER INFORMATION CONTACT: Heather Contrino, 202-366-5060, or Erica Interrante, 202-366-5048, Office of Transportation Policy Studies, Federal Highway Administration, Department of Transportation, 1200 New Jersey Avenue, SE., Washington, DC 20590, Monday through Friday, except Federal holidays.

SUPPLEMENTARY INFORMATION: Title: The Next Generation of Travel Focus Groups.

Background: The awareness and use of new technologies, communication and travel options, as well as social norms will influence transportation needs of the future. As the Federal Highway Administration (FHWA) considers the future outlook of an improved National Highway System, the transportation behaviors, perspectives and needs of the younger traveler cohort (ages 16-29) is a topic of study the agency is pursuing to better evaluate future planning and policy options.

The Next Generation of Travel study, being performed through the agency's Office of Transportation Policy Studies, will examine existing and future travel patterns, as well as how new vehicle and transportation-related technologies affect generations and the future of personal travel.

Certain generational implications on transportation that FHWA will be exploring include the following: mode choice, trip type and rates, travel time and distances, vehicle ownership and characteristics, vehicle occupancy, vehicle availability, travel costs, personal income, worker status, home and work location, life cycle, internet usage and telecommuting.

FHWA will be conducting a series of focus groups with individuals in the U.S. to gain additional understanding into the travel activities, choices and views of transportation by the traveling public. The focus groups will provide important information about the next several generations of travelers, playing a critical role in informing the outcomes of the data analysis, the accuracy of the traveler profiles, and other new or emerging norms and perspectives not identified in previous work. The information collected will also be used to identify new and emerging travel behavior, perspectives and social norms not covered through statistical analysis. This is the first time that FHWA will be conducting a study on this topic.

Respondents: Approximately 20 focus groups made up of 8-10 participants each from U.S. households will be held in different regions across the country. The focus groups will include participants from all the age cohorts; however, at least half of the focus groups will be made up of participants 16-29 years of age. The estimated total number of respondents is 200.

Frequency: The series of focus groups will be conducted once. No individual will participate in the focus groups more than once. The focus groups will be conducted during calendar year 2011.

Estimated Average Burden per Response: The estimated average burden per respondent is 60 minutes.

Estimated Total Annual Burden Hours: The estimated total annual burden for the focus group series is 200 hours.

Authority: The Paperwork Reduction Act of 1995; 44 U.S.C. Chapter 35, as amended; and 49 CFR 1.48.

Issued On: May 3, 2011.
Juli Huynh
Chief, Management Programs and Analysis Division.

[FR Doc. 2011-11976 Filed 5-13-11; 8:45 am]

BILLING CODE 4910-22-P